ENVIRONMENTAL PROTECTION AGENCY

[FRL-7204-8]

Clean Water Act Section 303(d): Final Agency Action on 88 Total Maximum Daily Loads (TMDLs)

AGENCY: Environmental Protection Agency (EPA).

ACTION: Notice of availability.

SUMMARY: This notice announces final agency action on 88 TMDLs prepared by EPA Region 6 for waters listed in Louisiana's Mermentau and Vermilion/Teche river basins, under section 303(d) of the Clean Water Act (CWA). EPA evaluated these waters and prepared the 88 TMDLs in response to the lawsuit styled Sierra Club, et al. v. Clifford et al., No. 96-0527, (E.D. La.). Documents from the administrative record files for the final 88 TMDLs, including TMDL calculations and responses to comments, may be viewed at www.epa.gov/region6/water/tmdl.htm. The administrative record files may be obtained by calling or writing Ms. Caldwell at the above address. Please contact Ms. Caldwell to schedule an inspection.

FOR FURTHER INFORMATION CONTACT: Ellen Caldwell at (214) 665-7513.

SUPPLEMENTARY INFORMATION: In 1996, two Louisiana environmental groups, the Sierra Club and Louisiana Environmental Action Network (plaintiffs), filed a lawsuit in Federal Court against the United States Environmental Protection Agency (EPA), styled Sierra Club, et al. v. Clifford et al., No. 96-0527, (E.D. La.). Among other claims, plaintiffs alleged that EPA failed to establish Louisiana TMDLs in a timely manner.

EPA Takes Final Agency Action on 88 TMDLs

By this notice EPA is taking a final agency action on the following 88 TMDLs for waters located within the Mermentau and Vermilion/Teche basins:

Subsegment | Waterbody name | Pollutant
060205 | Bayou Teche—Headwaters at Bayou Courtableau to I-10 | Salinity/TDS.
060211 | West Atchafalaya Borrow Pit Canal | Salinity/TDS.
060301 | Bayou Teche—I-10 to Keystone Locks and Dam | Salinity/TDS, Chlorides.
050201 | Bayou Plaquemine Brule—Headwaters to Bayou Descannes | Ammonia.
050401 | Mermentau River—Origin to Lake Arthur | Ammonia.
060102 | Cocodrie Lake | Noxious Aquatic Plants and Ammonia, Chlorides, Sulfates.
060204 | Bayou Courtableau—Origin to West Atchafalaya Borrow Pit Canal | Ammonia, Salinity/TDS.
060203 | Chicot Lake | Noxious Aquatic, Plants and Nutrients.
050101 | Bayou Des Cannes—Headwaters to Mermentau River | Nutrients.
050301 | Bayou Nezpipque—Headwaters to Mermentau River | Nutrients.
060202 | Bayou Cocodrie Bayou Boeuf—Headwaters to Bayou Courtableau | Nutrients.
060211 | West Atchafalaya Borrow Pit Canal | Sulfates.
060301 | Bayou Teche—I-10 to Keystone Locks and Dam | Sulfates.
050101 | Bayou Des Cannes—Headwaters to Mermentau River | Total Suspended Solids (TSS).
050102 | Bayou Joe Marcel | TSS.
050103 | Bayou Mallet | TSS.
050201 | Bayou Plaquemine Brule—Headwaters to Bayou Des Cannes | Siltation, TSS.
050301 | Bayou Nezpique—Headwaters to Mermentau River | Siltation, TSS.
050302 | Mermentau River Basin | Siltation, TSS.
050401 | Mermentau River—Origin to Lake Arthur | TSS.
050402 | Lake Arthur and Lower Mermentau | TSS.
050501 | Bayou Queue de Tortue—Headwaters to Mermentau River | TSS, Siltation.
050602 | Intracoastal Waterway | TSS.
050701 | Grand Lake | TSS.
050702 | Intracoastal Waterway | TSS.
050703 | White Lake | Siltation, TSS.
050901 | Bays and Gulf Waters to State 3-mile Limit | Siltation, TSS.
060101 | Spring Creek—Headwaters to Cocodrie Lake (Scenic) | TSS.
060102 | Cocodrie Lake | Siltation.
060201 | Bayou Cocodrie—From U.S. Hwy 167 to the Bayou Boeuf Cocodrie Canal | TSS.
060202 | Bayou Cocodrie—Cocodrie Diversion Canal to intersection Bayou Boeuf | TSS, Siltation.
060203 | Chicot Lake | TSS.
060204 | Bayou Courtableau—Origin to West Atchafalaya Borrow Pit Canal | TSS.
060205 | Bayou Teche—Headwaters at Bayou Courtableau to I-10 | TSS.
060207 | Bayou des Glaises Diversion Canal | TSS.
060208 | Bayou Boeuf—Headwaters to Bayou Courtableau | TSS.
060210 | Bayou Carron | TSS.
060211 | West Atchafalaya Borrow Pit Canal | TSS.
060212 | Chatlin Lake Canal and Bayou Dulac | TSS, Siltation.
060301 | Bayou Teche—I-10 to Keystone Locks and Dam | Turbidity, TSS.
060401 | Bayou Teche—Keystone Locks and Dam to Charenton Canal | TSS.
060501 | Bayou Teche—Charenton Canal to Wax Lake Outlet | TSS.
060601 | Charenton Canal | TSS.
060701 | Tete Bayou | TSS.
060702 | Lake Fausse Point and Dauterive Lake | TSS, Siltation.
060703 | Bayou du Portage | TSS.
060906 | Intracoastal Waterway | TSS.
060907 | Franklin Canal | TSS, Turbidity.
060801 | Vermilion River—Headwaters at Bayou Fusilier-Bourbeaux Junction to New Flanders (Ambassador Caffery Bridge at Hwy 3073) | TSS.
060802 | Vermilion River—From New Flanders (Ambassador Caffery Bridge) at Hwy 3073 to Intracoastal Waterway | TSS.
060803 | Vermilion River Cutoff | TSS.
060804 | Intracoastal Waterway | TSS.
060901 | Bayou Petite Anse | TSS.
060902 | Bayou Carlin (Delcambre Canal)—Lake Peigneur to Bayou Petite Anse (Estuarine) | TSS.
060903 | Bayou Tigre | TSS.
060904 | Vermilion River B890 Basin New Iberia Drainage Canal | TSS.
060905 | New Iberia Southern Drainage Canal | TSS, Turbidity.
060909 | Lake Peigneur | Siltation, TSS.
060910 | Boston Canal and Associated Canals (Estuarine) | Siltation, TSS, Turbidity.
060911 | Vermilion-Teche River Basin | TSS Siltation, TSS, Turbidity.
061102 | Intracoastal Waterway | TSS.
061103 | Freshwater Bayou Canal | TSS, Turbidity.

EPA requested the public to provide EPA with any significant data or information that may impact the 88 TMDLs at 66 FR 368 (January 03, 2001). The comments received and EPA's response to comments may be found at www.epa.gov/region6/water/tmdl.htm.

Dated: April 23, 2002.
Sam Becker,
Acting Director, Water Quality Protection Division, Region 6.

[FR Doc. 02-10729 Filed 5-1-02; 8:45 am]

BILLING CODE 6560-50-P